DEPARTMENT OF COMMERCE

National Oceanic and Atmospheric Administration

50 CFR Part 216

[Docket No.000801223-0223-01; I.D. 062000A]

RIN 0648-AO24

Taking and Importing Marine Mammals; Taking Marine Mammals Incidental to Operation of a Low Frequency Sound Source by the North Pacific Acoustic Laboratory; Correction

AGENCY: National Marine Fisheries Service (NMFS), National Oceanic and Atmospheric Administration (NOAA), Commerce.

ACTION: Correction to a notice of proposed rulemaking.

SUMMARY: This document contains corrections to the notice of proposed rulemaking that was published on December 22, 2000. These corrections are necessary to ensure reviewers provide comments appropriate for the proposed action.

ADDRESSES: A copy of the Scripps Institution of Oceanography (Scripps) application may be obtained by writing to Donna Wieting, Chief, Marine Mammal Conservation Division, Office of Protected Resources, National Marine Fisheries Service, 1315 East-West Highway, Silver Spring, MD 20910-3226.

FOR FURTHER INFORMATION CONTACT: Kenneth R. Hollingshead, Office of Protected Resources, NMFS, (301) 713-2055, ext 128.

SUPPLEMENTARY INFORMATION: On October 22, 1999, NMFS published a notice (64 FR 57026) that NMFS had received a request from Scripps for a small take of certain marine mammal species incidental to the operation of a low frequency sound source previously installed off the north shore of Kauai, HI, by the Acoustic Thermometry of Ocean Climate project.

Need for Correction

As published, the notice contains an error by requesting comment on the impact of explosives on marine mammals. As the Scripps' acoustic source is considered an intermittent sound source and does not result in effects on marine mammals similar to that which would result if the source were an explosive, the sentence may prove to be misleading and, therefore, is in need of correction. While NMFS welcomes comment on its criterion for explosive effects on marine mammals, it specifically requests comment in this document on the effects of intermittent noise on marine mammals.

Correction of Publication

Accordingly, the publication on December 22, 2000, of the notice of proposed rulemaking (I.D. 062000A), which was the subject of FR Doc. 00-32725, is corrected as follows:

On page 80822, in the first column, under the heading of Response to Comment 23, the last sentence beginning on line 10, is corrected to read: “NMFS invites comment on the criterion for assessing impacts from intermittent noise sources on marine mammals.”

Dated: January 5, 2001.
William T. Hogarth,
Deputy Assistant Administrator for Fisheries, National Marine Fisheries Service.

[FR Doc. 01-912 Filed 1-11-01; 8:45 am]

BILLING CODE 3510-22-S